DEPARTMENT OF HOUSING AND URBAN DEVELOPMENT

[Docket No. FR-5419-N-01]

Notice of Availability: Notice of Funding Availability (NOFA) for Fiscal Year (FY) 2009; Brownfields Economic Development Initiative (BEDI) Second Competition

AGENCY: Office of the Assistant Secretary for Community Planning and Development, HUD.

ACTION: Notice.

SUMMARY: This notice announces that HUD is conducting a second competition for assistance under its FY2009 Brownfields Economic Development Initiative (BEDI) NOFA, and that it has posted the BEDI NOFA on its Web site and on Grants.gov. This second round of competition makes approximately $8.1 million in assistance available under the Department of Housing and Urban Development Appropriations Act, 2009 (Pub. L. 111-8, approved March 11, 2009). All BEDI grants must be used in conjunction with a new Section 108-guaranteed loan commitment. Applicants for BEDI assistance must address the requirements established by HUD's Fiscal Year 2009 Notice of Funding Availability (NOFA) Policy Requirements and General Section to the NOFA published on December 29, 2008 (73 FR 79548), as amended on April 16, 2009 (74 FR 17685).

The BEDI NOFA providing information regarding the application process, funding criteria and eligibility requirements is available on the Grants.gov Web site at https://apply07.grants.gov/apply/forms_apps_idx.html. A link to Grants.gov is also available on the HUD Web site at http://www.hud.gov/offices/adm/grants/fundsavail.cfm. The Catalogue of Federal Domestic Assistance (CFDA) number for the BEDI Program is 14.246. Applications must be submitted electronically through Grants.gov.

FOR FURTHER INFORMATION CONTACT: David Kaminsky, Office of Economic Development, Department of Housing and Urban Development, 451 Seventh Street, SW., Room 7140, Washington, DC 20410; telephone 202-402-4612 or Robert Duncan, telephone 202-402-4681 (these are not toll-free numbers). Persons with speech or hearing impairments may access this telephone number via TTY by calling the toll-free Federal Information Relay Service during working hours at 800-877-8339.

Dated: May 27, 2010.
Jeanne Van Vlandren,
Acting General Deputy Assistant Secretary for Community Planning & Development.

[FR Doc. 2010-14003 Filed 6-10-10; 8:45 am]

BILLING CODE 4210-67-P